DEPARTMENT OF HEALTH AND HUMAN SERVICES

Administration for Children and Families

Proposed Information Collection Activity; Comment Request

Proposed Projects:

Title: Biennial Child Care Report for High Performance Bonus.

OMB No.: ACF-900.

Description: The Personal Responsibility and Work Opportunity Reconciliation Act of 1996, Public Law 104-193, established the Temporary Assistance for Needy Families (TANF) program under title IV-A of the Social Security Act (the Act), 42 U.S.C. 401 et seq. Section 403(a)(4) of the Act requires the Secretary to award bonuses to “high performing States.” (Indian tribes are not eligible for these bonuses.) The term “high performing State” is defined in section 403(a)(4) of the Act to mean a State that is most successful in achieving the purposes of the TANF program as specififed in section 401(a) of the Act.

The final rule covering the TANF high performance bonuses to States in FY 2002 and beyond was published August 30, 2000 (65 FR 52814) followed by an interim final rule published May 10, 2001 (66 FR 23854). The final and interim final rules set forth how CCB will compute scores and rank States on the three components, i.e., Accessibility, Affordability, and Quality, that comprise the child care measure.

In FY 2002, CCB will measure State performance based upon a composite ranking of the Accessibility and Affordability components. No additional reporting burden will be required since the data/information for the Accessibility and Affordability components are currently reported under the CCDF program (ACF Reports 800 and 801). However, there will be a reporting burden (related to the Quality component) for the information States must submit if they wish to compete on the child care measure in FY 2003. The information includes:

(1) All age-specific rates for children 0-13 years of age reported by the child day care centers and family day care homes responding to the State's market rate survey; and

(2) The provider's county or, if the State uses multi-county regions to measure market rates or set maximum payment rates, the administrative region.

Respondents: States, the District of Columbia, and Territories including Puerto Rico, Guam, the Virgin Islands, American Samoa, and the Northern Marianna Islands.

Instrument | Number of respondents | Number of responses per respondent | Average burden hours per response | Total burden hours
ACF-900 | 56 | 0.5 | 40 | 1,120
Estimated Total Annual Burden Hours |  |  |  | 1,120

In compliance with the requirements of section 3506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447, Attn: ACF Reports Clearance Officer. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: December 28, 2002.
Robert Sargis,
Report Clearance Officer.

[FR Doc. 02-32367 Filed 12-23-02; 8:45 am]

BILLING CODE 4184-01-M